DEPARTMENT OF EDUCATION

List of Correspondence From October 1, 2014, Through December 31, 2014

AGENCY: Office of Special Education and Rehabilitative Services, Department of Education.

ACTION: Notice.

SUMMARY: The Secretary is publishing the following list of correspondence from the U.S. Department of Education (Department) received by individuals during the fourth quarter of 2014. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., Braille, large print, audiotape, or compact disc) by contacting Jessica Spataro or Mary Louise Dirrigl at (202) 245-7605.

SUPPLEMENTARY INFORMATION: The following list identifies correspondence from the Department issued from October 1, 2014, through December 31, 2014. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part B—Assistance for Education of All Children With Disabilities

Section 602—Definitions

Topic Addressed: Child With a Disability

○ Letter dated November 12, 2014, to Maryland attorney Michelle Kotler, regarding criteria used by some States to identify children with “visual impairment or blindness,” a term defined in Part B of the IDEA.

Section 612—State Eligibility

Topic Addressed: Free Appropriate Public Education

○ Dear Colleague Letter dated November 12, 2014, and accompanying Frequently Asked Questions document, issued jointly by the Department's Office for Civil Rights and Office of Special Education and Rehabilitative Services, and the U.S. Department of Justice's Civil Rights Division, explaining the interplay between requirements in Part B of the IDEA governing the provision of a free appropriate public education and the requirements in Title II of the Americans with Disabilities Act governing effective communication with students with hearing, vision, or speech disabilities in public elementary and secondary schools.

○ Dear Colleague Letter dated December 5, 2014, regarding the requirements in Part B of the IDEA that apply to the education of students with disabilities in correctional facilities.

Topic Addressed: Methods of Ensuring Services

○ Letter dated February 10, 2014,¹ to Connecticut Department of Social Services official Jennifer Pardus, regarding the requirements in Part B of the IDEA that public agencies must follow prior to accessing a child's or parent's public benefits or insurance for the first time.

¹ This February 10, 2014, letter was inadvertently omitted from the first quarter List of Correspondence covering January 1, 2014, through March 31, 2014.

Topic Addressed: State Educational Agency General Supervisory Authority

○ Letter dated November 3, 2014, to Maine Disability Rights Center staff attorney Atlee Reilly, clarifying that there is no requirement to assign burden of proof under the State complaint procedures in Part B of the IDEA.

Topic Addressed: Maintenance of State Financial Support

○ Letter dated December 17, 2014, to Illinois State Board of Education State Superintendent of Education Christopher Koch, regarding the requirements in Part B of the IDEA relating to maintenance of State financial support for special education and related services.

Section 614—Evaluations, Eligibility Determinations, Individualized Education Programs, and Educational Placements

Topic Addressed: Reevaluations

○ Letter dated November 12, 2014, to educator Tracy Blodgett, regarding whether a child whose hearing loss was medically or surgically corrected could still meet the eligibility criteria as a “child with a disability” under Part B of the IDEA.

Other Letters That Do Not Interpret Idea but May Be of Interest to Readers

○ Dear Colleague Letter dated November 12, 2014, issued jointly by the Department's Office for Civil Rights and the U.S. Department of Justice Civil Rights Division, regarding the application of Federal civil rights requirements to the education of students in juvenile justice residential facilities.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 16, 2016.
Sue Swenson,
Acting Assistant Secretary for Special Education and Rehabilitative Services.

[FR Doc. 2016-14720 Filed 6-21-16; 8:45 am]

BILLING CODE 4000-01-P